DEPARTMENT OF THE TREASURY

Submission for OMB Review; Comment Request

September 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 18, 2002, to be assured of consideration.

Internal Revenue Service (IRS)

OMB Number: 1545-0295.

Notice Number: Notice 210.

Type of Review: Extension.

Title: Preparation Instructions for Media Labels.

Description: Notice 210, Preparation Instructions for Media Labels, instructs the filers on how to prepare their own pressure sensitive label. This label must be attached to each and every piece of magnetic media to identify specific items needed so that the media can be processed by the Internal Revenue Service.

Respondents: Business or other for-profit, not-for-profit institutions.

Estimated Number of Respondents: 150,000.

Estimated Burden Hours Per Respondent: 5 minutes.

Frequency of Response: On occasion.

Estimated Total Reporting Burden: 12,765 hours.

OMB Number: 1545-0619.

Form Number: IRS Form 6765.

Type of Review: Revision.

Title: Credit for Increasing Research Activities.

Description: Internal Revenue Code (IRC) section 38 allows a credit against income tax (Determined under IRC section 41) for an increase in research activities in a trade or business. Form 6765 is used by businesses and individuals engaged in a trade or business to figure and report the credit. The data is used to verify that the credit claimed is correct.

Respondents: Business or other for-profit, individuals or households.

Estimated Number of Respondents/Recordkeepers: 23,947.

Estimated Burden Hours Per Respondent/Recordkeeper:

Recordkeeping—16 hr., 58 min.

Learning about the law or the form—1 hr., 40 min.

Preparing and sending the form to the IRS—2 hr., 2 min.

Frequency of Response: Annually.

Estimated Total Reporting/Recordkeeping Burden: 495,943 hours.

OMB Number: 1545-1210.

Form Number: IRS Form 8379.

Type of Review: Extension.

Title: Injured Spouse Claim and Allocation.

Description: A non-obligated spouse may file Form 8379 to request the non-obligated spouse's share of a joint income tax refund that would otherwise be applied to the past-due obligation owed to a state or federal agency by the other spouse.

Respondents: Individuals or households.

Estimated Number of Respondents/Recordkeepers: 300,000.

Estimated Burden Hours Per Respondent/Recordkeeper:

Recordkeeping—13 min.

Learning about the law or the form—10 min.

Preparing the form—58 min.

Copying, assembling, and sending the form to the IRS—24 min.

Frequency of Response: On occasion.

Estimated Total Reporting/Recordkeeping Burden: 531,000 hours.

OMB Number: 1545-1350.

Form Number: IRS Form 9465.

Type of Review: Extension.

Title: Installment Agreement Request.

Description: Form 9465 is used by the public to provide identifying account information and financial ability to enter into an installment agreement for payment of taxes. The form is used by IRS to establish a payment plan for taxes owed to the federal government, if appropriate, and to inform taxpayers about the application fee and their financial responsibilities.

Respondents: Individuals or households.

Estimated Number of Respondents: 760,000.

Estimated Burden Hours Per Respondent:

Learning about the law or the form—16 min.

Preparing the form—26 min.

Copying, assembling, and sending the form to the IRS—20 min.

Frequency of Response: On occasion.

Estimated Total Reporting Burden: 805,600 hours.

OMB Number: 1545-1517.

Form Number: IRS Form 1099-MSA.

Type of Review: Revision.

Title: Distributions from an Archer MSA or Medicare+Choice MSA.

Description: This form is used to report distributions from a medical savings account as set forth in section 220(h).

Respondents: Business or other for-profit.

Estimated Number of Respondents: 10,336.

Estimated Burden Hours Per Respondent: 8 minutes.

Frequency of Response: Annually.

Estimated Total Reporting Burden: 3,618 hours.

OMB Number: 1545-1662.

Regulation Project Number: REG-121063-97 Final.

Type of Review: Extension.

Title: Averaging of Farm Income.

Description: Code section 1301 allows an individual engaged in a farming business to elect to reduce his or her regular tax liability by treating all or a portion of the current year's farming income as if it had been earned in equal proportions over the prior three years. The regulation provides that the election for averaging farm income is made by filing Schedule J of Form 1040, which is also used to record and total the amount of tax for each year of the four year calculation.

Respondents: Farms, individuals or households.

Estimated Number of Respondents: 1.

Estimated Burden Hours Per Respondent: 1 hour.

Frequency of Response: Annually.

Estimated Total Reporting Burden: 1 hour.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 02-23675 Filed 9-17-02; 8:45 am]

BILLING CODE 4830-01-P